DEPARTMENT OF ENERGY

Federal Energy Regulatory Commission

[Docket No. RP01-395-000]

Northern Natural Gas Company; Notice of Technical Conference

June 6, 2001.

In the Commission's order issued on May 31, 2001,¹ the Commission directed that a technical conference be held to address issues raised by the filing.

¹ Northern Natural Gas Co., 95 FERC ¶ 61,315 (2001).

Take notice that the technical conference will be held on Tuesday, June 26, 2001, at 10:00 a.m., in a room to be designated, at the offices of the Federal Energy Regulatory Commission, 888 First Street, NE., Washington, DC 20426.

All interested parties and Staff are permitted to attend.

David P. Boergers,
Secretary.

[FR Doc. 01-14697 Filed 6-11-01; 8:45 am]

BILLING CODE 6717-01-M